DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Union Pacific Railroad Company

(Docket Number FRA-2007-28340)

Union Pacific Railroad Company (UP) seeks a waiver of compliance from certain requirements of 49 CFR Part 232, Brake System Safety Standards for Freight and Other Non-Passenger Trains and Equipment: End-of Train Devices; and CFR Part 215, Railroad Freight Car Safety Standards. Specifically, UP seeks relief to permit trains received at the U.S./Mexico border at Brownsville, TX, from the Kansas City Southern de Mexico Railway (KCSM), to move from the interchange point without performing the regulatory tests and inspections specified in 49 CFR Part 215 and 49 CFR section 232.205(a)(1), at that location. UP proposes moving the trains from the border at Milepost 0.7 on the Brownsville Subdivision to the UP yard at Olmito, TX, a distance of 7.9 miles, where the required FRA inspections will be performed. According to UP, the railroad has been operating in this fashion since February 2004 under the authority of a letter from the Director of FRA's Office of Safety Assurance and Compliance.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-28340) and must be submitted in triplicate to the Docket Clerk, 1200 New Jersey Avenue, SE., West Building Ground Floor, Room W12-140, Washington, DC 20590.

Communications received within 45 days of the date of this notice will be considered by FRA before final action is taken. Comments received after that date will be considered as far as practicable. All written communications concerning these proceedings are available for examination during regular business hours (9 a.m.-5 p.m.) at the DOT Central Docket Management Facility, 1200 New Jersey Avenue, SE., West Building Ground Floor, Room W12-140, in Washington, DC. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-19478). The Statement may also be found at http://dms.dot.gov.

Issued in Washington, DC, on August 7, 2007.
Grady C. Cothen, Jr.,
Deputy Associate Administrator for Safety Standards and Program Development.

[FR Doc. E7-15738 Filed 8-10-07; 8:45 am]

BILLING CODE 4910-06-P